DEPARTMENT OF TRANSPORTATION

Office of the Secretary

Notice of Applications for Certificates of Public Convenience and Necessity and Foreign Air Carrier Permits Filed Under Subpart B (Formerly Subpart Q) During the Week Ending December 7, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0096.

Date Filed: December 5, 2007.

Due Date for Answers, Conforming Applications, or Motion to Modify Scope: December 26, 2007.

Description

Application of Astraeus Limited, requesting an exemption and foreign air carrier permit to provide scheduled and charter air transportation of persons, property and mail to the full extent allowed under the Air Transport Agreement between the United States and the European Community and the Member States of the European Union.

Docket Number: DOT-OST-2007-0006.

Date Filed: December 6, 2007.

Due Date for Answers, Conforming Applications, or Motion to Modify Scope: December 13, 2007.

Description

Application of U.S. Airways, Inc., requesting an exemption and certificate of public convenience and necessity, permitting U.S. Airways to engage in the scheduled foreign air transportion of persons, property and mail between Charlotte, North Carolina, on the one hand, and Bogota, Colombia, on the other hand, via intermediate points, and beyond Colombia to points in the Western Hemisphere. U.S. Airways requests further that the Department award seven combination frequencies and an associated designation for use in operating daily scheduled service between Charlotte and Bogotá, beginning October 1, 2008.

Docket Number: DOT-OST-2007-0006.

Date Filed: December 6, 2007.

Due Date for Answers, Conforming Applications, or Motion to Modify Scope: December 13, 2007.

Description

Supplemental Application of Spirit Airlines, Inc., requesting an exemption and a certificate of public convenience and necessity to engage in scheduled foreign air transportation pursuant to 49 U.S.C. 41102 of persons, property and mail between (i) Orlando, Florida and Bogotá, Colombia, and (ii) Fort Lauderdale, Florida and Bogotá, Colombia.

Docket Number: DOT-OST-2007-0006.

Date Filed: December 6, 2007.

Due Date for Answers, Conforming Applications, or Motion to Modify Scope: December 13, 2007.

Description

Suplemental Application of JetBlue Airways Corporation (“JetBlue”), requesting a certificate of public convenience for foreign air transportation of persons, property and mail, between the United States and Bogotá, Colombia.

Docket Number: DOT-OST-2007-0006.

Date Filed: December 6, 2007.

Due Date for Answers, Conforming Applications, or Motion to Modify Scope: December 13, 2007.

Description

Supplement No.1 and amendment of Delta Air Lines, Inc., requesting certificate authority and frequencies to serve the following U.S. Colombia routes, pursuant to DOT Order 2007-11-23: (1) Between New York, New York, and Bogotá, Colombia, with 7 weekly frequencies; (2) between Atlanta, Georgia, and Medellin, Colombia, with 4 weekly frequencies; and (3) between Atlanta, Georgia, and Cali, Colombia, with 3 weekly frequencies.

Renee V. Wright,
Program Manager, Docket Operations, Federal Register Liaison.

[FR Doc. E8-6479 Filed 3-27-08; 8:45 am]

BILLING CODE 4910-9X-P